DEPARTMENT OF TRANSPORTATION

Office of the Secretary

Aviation Proceedings, Agreements Filed the Week Ending January 24, 2009

The following Agreements were filed with the Department of Transportation under the Sections 412 and 414 of the Federal Aviation Act, as amended (49 U.S.C. 1382 and 1384) and procedures governing proceedings to enforce these provisions. Answers may be filed within 21 days after the filing of the application.

Docket Number DOT-OST-2009-0018.

Date Filed: January 23, 2009.

Parties: Members of the International Air Transport Association.

Subject: TC3 Within South East Asia between Malaysia and Guam Resolutions & Specified Fares Tables, (Memo 1258). Minutes: TC3 Bangkok, 10-15 November 2008, (Memo 1269). Intended effective date: 1 April 2009.

Docket Number: DOT-OST-2009-0019.

Date Filed: January 23, 2009.

Parties: Members of the International Air Transport Association.

Subject: TC3 Japan-Korea, Resolutions & Specified Fares Tables, (Memo 1259). Minutes: TC3 Bangkok, 10-15 November 2008, (Memo 1269). Intended effective date: 1 April 2009.

Docket Number: DOT-OST-2009-0020.

Date Filed: January 23, 2009.

Parties: Members of the International Air Transport Association.

Subject: TC3 Within South Asian Subcontinent. Resolutions & Specified Fares Tables, (Memo 1260). Minutes: TC3 Bangkok, 10-15 November 2008. (Memo 1269). Intended effective date: 1 April 2009.

Docket Number: DOT-OST-2009-0021.

Date Filed: January 23, 2009.

Parties: Members of the International Air Transport Association.

Subject: TC3 South East Asia—South Asian Subcontinent. Resolutions & Specified Fares Tables. (Memo 1261). Minutes: TC3 Bangkok, 10-15 November 2008, (Memo 1269). Intended effective date: 1 April 2009.

Renee V. Wright,
Program Manager, Docket Operations, Federal Register Liaison.

[FR Doc. E9-2628 Filed 2-6-09; 8:45 am]

BILLING CODE 4910-9X-P